Proclamation 8831 of May 25, 2012

Prayer for Peace, Memorial Day, 2012

By the President of the United States of America

A Proclamation

Our Nation endures and thrives because of the devotion of our men and women in uniform, who, from generation to generation, carry a burden heavier than any we may ever know. On Memorial Day, we honor those who have borne conflict’s greatest cost, mourn where the wounds of war are fresh, and pray for a just, lasting peace.

The American fabric is stitched with the stories of sons and daughters who gave their lives in service to the country they loved. They were patriots who overthrew an empire and sparked revolution. They were courageous men and women who strained to hold a young Union together. They were ordinary citizens who rolled back the creeping tide of tyranny, who stood post through a long twilight struggle, who saw terror and extremism threaten our world’s security and said, “I’ll go.” And though their stories are unique to the challenges they faced, our fallen service members are forever bound by a legacy of valor older than the Republic itself. Now they lay at rest in quiet corners of our country and the world, but they live on in the families who loved them and in the soul of a Nation that is safer for their service.

Today, we join together in prayer for the fallen. We remember all who have borne the battle, whose devotion to duty has sustained our country and kept safe our heritage as a free people in a free society. Though our hearts ache in their absence, we find comfort in knowing that their legacy lives on in all of us—in the security that lets us live in peace, the prosperity that allows us to pursue our dreams, and the love that still beats in those who knew them. May God bless the souls of the venerable warriors we have lost, and may He watch over the men and women who serve us now. Today, tomorrow, and in perpetuity, let us give thanks to them by remaining true to the values and virtues for which they fight.

In honor of all of our fallen service members, the Congress, by a joint resolution approved May 11, 1950, as amended (36 U.S.C. 116), has requested the President issue a proclamation calling on the people of the United States to observe each Memorial Day as a day of prayer for permanent peace and designating a period on that day when the people of the United States might unite in prayer. The Congress, by Public Law 106-579, has also designated 3:00 p.m. local time on that day as a time for all Americans to observe, in their own way, the National Moment of Remembrance.

NOW, THEREFORE, I, BARACK OBAMA, President of the United States of America, do hereby proclaim Memorial Day, May 28, 2012, as a day of prayer for permanent peace, and I designate the hour beginning in each locality at 11:00 a.m. of that day as a time to unite in prayer. I also ask all Americans to observe the National Moment of Remembrance beginning at 3:00 p.m. local time on Memorial Day.

I request the Governors of the United States and the Commonwealth of Puerto Rico, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-fifth day of May, in the year of our Lord two thousand twelve, and of the Independence of the United States of America the two hundred and thirty-sixth.

[FR Doc. 2012-13516

Filed 5-31-12; 11:15 am]

Billing code 3295-F2-P